NUCLEAR REGULATORY COMMISSION

[NRC-2012-0002]

Sunshine Act Meeting

AGENCY HOLDING THE MEETINGS: Nuclear Regulatory Commission, [NRC-2012-0002].

DATE: Weeks of March 12, 19, 26, April 2, 9, 16, 2012.

PLACE: Commissioners' Conference Room, 11555 Rockville Pike, Rockville, Maryland.

STATUS: Public and closed.

Week of March 12, 2012

There are no meetings scheduled for the week of March 12, 2012.

Week of March 19, 2012—Tentative

There are no meetings scheduled for the week of March 19, 2012.

Week of March 26, 2012—Tentative

Tuesday, March 27, 2012

9 a.m.—Briefing on License Renewal for Research and Test Reactors (Public Meeting) (Contact: Jessie Quichocho, 301-415-0209).

This meeting will be webcast live at the Web address— www.nrc.gov.

Week of April 2, 2012—Tentative

Tuesday April 3, 2012

9:30 a.m.—Meeting with Organization of Agreement States (OAS) and Conference of Radiation Control Program Directors (CRCPD) (Public Meeting) (Contact: Cindy Flannery, 301-415-0223).

This meeting will be webcast live at the Web address— www.nrc.gov.

Week of April 9, 2012—Tentative

Tuesday, April 10, 2012

9 a.m.—Briefing on the Final Report of the Blue Ribbon Commission on America's Nuclear Future (Public Meeting) (Contact: Alicia Mullins, 301-492-3351).

This meeting will be webcast live at the Web address— www.nrc.gov.

Week of April 16, 2012—Tentative

There are no meetings scheduled for the week of April 16, 2012.

* * * * *

* The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: March 8, 2012.
Rochelle C. Bavol,
Policy Coordinator, Office of the Secretary.

[FR Doc. 2012-6148 Filed 3-9-12; 4:15 pm]

BILLING CODE 7590-01-P